FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 11, 2006.

A. Federal Reserve Bank of Atlanta (Andre Anderson, Vice President) 1000 Peachtree Street, NE., Atlanta, Georgia 30303:

1. The Robin and Cherie Arkley Revocable Algiers Bancorp Stock Trust, Eureka, California, with Robin P. Arkley II and Cherie P. Arkley, Eureka, California, as trustees to acquire 57 percent of the voting shares; Allison E. Arkley Trust no. 5, Eureka, California, Calvin Richard Jones, managing member of CTT, LLC, Eureka, California, and John L. Piland as trustees to acquire 19 percent of the voting shares; and Elizabeth A. Arkley Trust no. 5, Calvin Richard Jones, managing member of CTT, LLC, Eureka, California, John L. Piland as trustees to acquire 19 percent of the voting shares; and Jack J. Mendheim and Stephanie C. Medheim, Folsom, Louisiana, to acquire 5 percent of the voting shares all with respect to Algiers Bancorp, Inc., Baton Rouge, Louisiana, and all to thereby indirectly acquire voting shares of Statewide Bank, Terrytown, Louisiana.

B. Federal Reserve Bank of Kansas City (Donna J. Ward, Assistant Vice President) 925 Grand Avenue, Kansas City, Missouri 64198-0001:

1. Paul C. Bauman and Emily A. Bauman, both of Tulsa, Oklahoma; and Henry C. Bauman, III, Tyler, Texas; to acquire voting shares of United Capital Bancshares, Inc., and thereby indirectly acquire voting shares of Bank of Wyandotte, both of Wyandotte, Oklahoma.

C. Federal Reserve Bank of Dallas (W. Arthur Tribble, Vice President) 2200 North Pearl Street, Dallas, Texas 75201-2272:

1. James E. Bethard and Robert E. Bethard, both of Coushatta, Louisiana; and Suzanne B. Hearne, Shreveport, Louisiana; as trustees of Voting Trust Agreement, to retain ownership of 77.58 percent of the voting shares of Coushatta Bancshares, Inc., and thereby indirectly retain voting shares of Bank of Coushatta, both of Coushatta, Louisiana.

Board of Governors of the Federal Reserve System, April 21, 2006.
Jennifer J. Johnson,
Secretary of the Board.

[FR Doc. E6-6257 Filed 4-25-06; 8:45 am]

BILLING CODE 6210-01-S